DEPARTMENT OF ENERGY

Federal Energy Regulatory Commission

Combined Notice of Filings

Take notice that the Commission has received the following Natural Gas Pipeline Rate and Refund Report filings:

Filings Instituting Proceedings

Docket Numbers: RP17-626-001.

Applicants: Gulf Crossing Pipeline Company LLC.

Description: Gulf Crossing Pipeline Company LLC submits tariff filing per 154.205(b): Amendment to Filing in RP17-626-000 to be effective 4/1/2017.

Filed Date: 04/17/2017.

Accession Number: 20170417-5133.

Comment Date: 5:00 p.m. Eastern Time on Monday, May 1, 2017.

Docket Numbers: RP17-658-000.

Applicants: Gulf South Pipeline Company, LP.

Description: Gulf South Pipeline Company, LP submits tariff filing per 154.204: Amendment to Neg Rate Agmt (Pivotal 34691-14) to be effective 4/17/2017.

Filed Date: 04/17/2017.

Accession Number: 20170417-5171.

Comment Date: 5:00 p.m. Eastern Time on Monday, May 1, 2017.

Docket Numbers: RP17-659-000.

Applicants: Equitrans, L.P.

Description: Equitrans, L.P. submits tariff filing per 154.203: Notice Regarding Non-Jurisdictional Gathering Facilities (F-543 W-4672 W-4665).

Filed Date: 04/17/2017.

Accession Number: 20170417-5186.

Comment Date: 5:00 p.m. Eastern Time on Monday, May 1, 2017.

Docket Numbers: RP17-660-000.

Applicants: Equitrans, L.P.

Description: Equitrans, L.P. submits tariff filing per 154.203: Notice Regarding Non-Jurisdictional Gathering Facilties (F-641 H-10151).

Filed Date: 04/17/2017.

Accession Number: 20170417-5187.

Comment Date: 5:00 p.m. Eastern Time on Monday, May 1, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2017.
Kimberly D. Bose,
Secretary.

[FR Doc. 2017-08273 Filed 4-24-17; 8:45 am]

BILLING CODE 6717-01-P